FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

International Logistics Inc.9902 S. 148th Street Omaha, NE 68138

Officers:Michael T. Contreras, Vice President(Qualifying Individual)Thomas Hastings, President/CEO

Worldtrans Co. d/b/a Worldtrans Container Line 3300 North Barrington Rd., Ste. 400 Hoffman Estates, IL 60195

Officer: Charles B. Ozburn, President(Qualifying Individual)

Trans-Nexus Logistics Ltd., Co.30 Montgomery Street, Ste. 240 Jersey City, NJ 07302

Officers:Jeffrey Phu, President(Qualifying Individual)Michael D. Iorio, Vice President

Star Airfreight Co., Ltd.8901 S. La Cienega Blvd., Ste. 209 Inglewood, CA 90301

Officers:Anthony Chan, President(Qualifying Individual)Eddie T.C. Yau, Chairman

Star Airfreight Co., Ltd.149-35 177th Street, 2/Fl.Jamaica, NY 11434

Officers:Anthony Chan, President(Qualifying Individual)Eddie T.C. Yau, Chairman

New Hope Logistics Inc.1080 N. Argonia Walnut, CA 91789

Officers:Joseph Chu, CEO(Qualifying Individual)Belinta Chu, CFO

LMD Logistics, Inc.1 Evertrust Plaza, 4th Floor Jersey City, NJ 07302

Officer:Mitchel R. Scher, President(Qualifying Individual)

Non-Vessel Operating Common Carrier and Ocean Freight Forwarder Transportation Intermediary Applicants

Atallah Business Group 6911 NW 87th Avenue Miami, FL 33166

Officers:Betsy Delosangeles Perez-Diaz, Secretary(Qualifying Individual)Ramese Atallah, President

International Frontier Forwarders, Inc.471 West 38th Street Houston, TX 77018

Officer:Jose Gregorio Diaz, President(Qualifying Individual)

Moog International, Inc.1223 Grove Road Pittsburgh, PA 15234-2397

Officers:James A. Frye, Vice President(Qualifying Individual)Ronald P. Moog, President

Ocean Freight Forwarder—Ocean Transportation Intermediary Applicants

Hayek Services, Inc.5513 NW 72nd Avenue Miami, FL 33166

Officer:Fransua, A. Hayek, Director(Qualifying Individual)

E S I Freight (USA) Inc.Ste. 250, Bldg. 9, JFK International Airport Jamaica, NY 11430

Officer:Ying Wai Man, President(Qualifying Individual)

Dated: February 1, 2002.
Bryant L. VanBrakle,
Secretary.

[FR Doc. 02-2890 Filed 2-6-02; 8:45 am]

BILLING CODE 6730-01-P